DEPARTMENT OF DEFENSE

Department of the Army, Corps of Engineers

Notice of Availability of the Final Missouri River Recovery Management Plan and Environmental Impact Statement

AGENCY: Department of the Army, U.S. Army Corps of Engineers, DoD.

ACTION: Notice; second extension of Final EIS waiting period.

SUMMARY: The Notice of Availability for the Final Missouri River Recovery Management Plan and Environmental Impact Statement (MRRMP-FEIS) published in the Federal Register on Friday, August 31, 2018, stated the waiting period for signature of the MRRMP-FEIS Record of Decision would end on October 9, 2018. The U.S. Army Corps of Engineers previously extended the waiting period through October 22, 2018 with a notice published in the Federal Register on Friday, September 28, 2018. Through this notice, the U.S. Army Corps of Engineers is extending the waiting period again through November 9, 2018.

FOR FURTHER INFORMATION CONTACT: Tiffany Vanosdall, U.S. Army Corps of Engineers at (402) 995-2695 or by email at tiffany.k.vanosdall@usace.army.mil.

SUPPLEMENTARY INFORMATION: The MRRMP-FEIS can be downloaded online at: http://www.nwo.usace.army.mil/mrrp/mgmt-plan/ or at: http://parkplanning.nps.gov/MRRMP.

Brenda S. Bowen,
Army Federal Register Liaison Officer.

[FR Doc. 2018-22145 Filed 10-11-18; 8:45 am]

BILLING CODE 3720-58-P